ENVIRONMENTAL PROTECTION AGENCY

[FRL-7970-5]

Science Advisory Board Staff Office; Clean Air Scientific Advisory Committee (CASAC); CASAC Ozone Review Panel; Notification of Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee (CASAC) Ozone Review Panel (Panel) to conduct a consultation on EPA's draft Ozone Environmental Assessment Plan: Scope and Methods for Exposure, Risk and Benefits Assessment (August 2005).

DATES: The teleconference meeting will be held on October 3, 2005, from 1 to 4 p.m. (Eastern Time).

FOR FURTHER INFORMATION CONTACT: Any member of the public who wishes to obtain the teleconference call-in numbers and access codes; would like to submit written or brief oral comments; or wants further information concerning this teleconference meeting, should contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA SAB can be found on the EPA Web site at: http://www.epa.gov/sab.

SUPPLEMENTARY INFORMATION: Background: Under section 108 of the Clean Air Act (CAA or Act), the Agency is required to establish National Ambient Air Quality Standards (NAAQS) for each pollutant for which EPA has issued criteria, including ozone (O3). Section 109(d) of the CAA subsequently requires periodic review and, if appropriate, revision of existing air quality criteria and standards to reflect advances in scientific knowledge on the effects of the pollutant on public health and welfare. The Agency revised the NAAQS for O3 in July 1997. EPA's Office of Research and Development (ORD) released a draft updated air quality criteria document for O3 (draft Ozone AQCD) in January 2005. The CASAC Ozone Review Panel met in a public meeting to conduct a peer review on this draft Ozone AQCD on May 4-5, 2005. EPA's Office of Air Quality Planning and Standards (OAQPS), within the Office of Air and Radiation (OAR), is in the process of developing a draft updated Staff Paper for O3 as part of its review of the O3 NAAQS. This draft Staff Paper will evaluate the policy implications of the key scientific and technical information contained in the draft Ozone AQCD and identify critical elements that EPA believes should be considered in the review of the O3 NAAQS. The O3 Staff Paper is intended to “bridge the gap” between the scientific review contained in the Ozone AQCD and the public health and welfare policy judgments required of the EPA Administrator in reviewing the O3 NAAQS. OAQPS has developed a draft Ozone Environmental Assessment Plan, which outlines the scope, approaches, and key issues in estimating vegetation exposure, risk, and impacts on economic values posed by O3.

EPA is soliciting advice and recommendations from the CASAC, by means of a consultation on the draft Ozone Environmental Assessment Plan, on the overall scope, approaches, and key issues in advance of the completion of such analyses and presentation of results in the draft O3 Staff Paper. The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App. The CASAC Ozone Review Panel complies with the provisions of FACA and all appropriate SAB Staff Office procedural policies.

Technical Contact: Any questions concerning the draft Ozone Environmental Assessment Plan should be directed to Ms. Vicki Sandiford, OAQPS, at phone: (919) 541-2629, or e-mail: sandiford.vicki@epa.gov.

Availability of Meeting Materials

The draft Ozone Environmental Health Assessment Plan can be accessed via the Agency's Technology Transfer Network (TTN) Web site at: http://www.epa.gov/ttn/naaqs/standards/ozone/s_o3_index.html under “Planning Documents.” In addition, a copy of the draft agenda for this meeting will be posted on the SAB Web Site at: http://www.epa.gov/sab (under the “Agendas” subheading) in advance of this CASAC Ozone Review Panel meeting. Other meeting materials, including the charge to the CASAC Ozone Review Panel, will be posted on the SAB Web site at: http://www.epa.gov/sab/panels/casacorpanel.html prior to this meeting.

Providing Oral or Written Comments at SAB Meetings

The SAB Staff Office accepts written public comments of any length, and will accommodate oral public comments whenever possible. The SAB Staff Office expects that public statements presented at its face-to-face meetings and teleconferences will not repeat previously-submitted oral or written statements.

Oral Comments: In general, each individual or group requesting an oral presentation at a CASAC meeting or teleconference is limited to a total time of five minutes (unless otherwise indicated). However, no more than 30 minutes will be allotted for all oral public comments at this teleconference; therefore, the time allowed for each speaker's comments will be adjusted accordingly. In addition, for scheduling purposes, requests to provide oral comments must be in writing (e-mail, fax or mail) and received by Mr. Butterfield no later than September 26, 2005 in order to reserve time on the meeting agenda.

Written Comments: Written comments should be received in the SAB Staff Office by September 26, 2005 so that the comments may be made available to the CASAC PM Review Panel for their consideration. Comments should be supplied to Mr. Butterfield (preferably via e-mail) at the address/contact information noted above, as follows: one hard copy with original signature, and one electronic copy via e-mail (acceptable file format: Adobe Acrobat PDF, WordPerfect, MS Word, MS PowerPoint, or Rich Text files (in IBM-PC/Windows 98/2000/XP format)).

Meeting Accommodations

Individuals requiring special accommodation to access this meeting, should contact the DFO at least five business days prior to the meeting so that appropriate arrangements can be made.

Dated: September 13, 2005.
Anthony Maciorowski,
Associate Director for Science, EPA Science Advisory Board Staff Office.

[FR Doc. 05-18578 Filed 9-16-05; 8:45 am]

BILLING CODE 6560-50-P